DEPARTMENT OF COMMERCE

Foreign-Trade Zones Board

[Docket T-2-2008]

Foreign-Trade Zone 26—Atlanta, GA, Request for Temporary/Interim Manufacturing Authority, Extension of Comment Period Kia Motors Manufacturing Georgia, Inc. (Motor Vehicles)

Based on a request from interested parties, the comment period for the application submitted to the Foreign-Trade Zones Board (the Board) by Georgia Foreign-Trade Zone, Inc. (73 FR 27492, 5-13-2008), grantee of FTZ 26, requesting temporary/interim manufacturing (T/IM) authority within FTZ 26 at the Kia Motors Manufacturing Georgia, Inc., facility in West Point, Georgia, has been extended to July 14, 2008 to allow interested parties additional time in which to comment. Rebuttal comments may be submitted during the subsequent 15 day period, until July 29, 2008.

Submissions (original and 3 copies) shall be addressed to the Board's Executive Secretary at the following address: Office of the Executive Secretary, Room 2111, U.S. Department of Commerce, 1401 Constitution Avenue, NW, Washington, DC 20230-0002. For further information, contact Pierre Duy, examiner, at: pierre_duy@ita.doc.gov, or (202) 482-1378.

Dated: June 12, 2008.
Andrew McGilvray,
Executive Secretary.

[FR Doc. E8-13894 Filed 6-18-08; 8:45 am]

BILLING CODE 3510-DS-S